FEDERAL COMMUNICATIONS COMMISSION

47 CFR Part 73

[DA 02-204; MM Docket No. 01-5; RM-10028; RM-10107]

Radio Broadcasting Services; Butler and Reynolds, GA

AGENCY: Federal Communications Commission.

ACTION: Final rule.

SUMMARY: This document denies a petition for rule making filed by H. David Hedrick (RM-10028), proposing the allotment of FM Channel 245A to Butler, Georgia. See 66 FR 7606, January 24, 2001. In response to a counterproposal filed on behalf of Fort Valley State University (RM-10107), the Allocations Branch allots Channel *245A to Reynolds, Georgia, as its first local service, and reserves the allotment for noncommercial educational use, as requested. Coordinates used for Channel *245A at Reynolds, Georgia, are 32-31-32 NL and 84-07-15 WL. With this action, this docketed proceeding is terminated.

DATES: Effective March 11, 2002. A filing window for Channel *245A at Reynolds, Georgia, will not be opened at this time. Instead, the issue of opening this allotment for application will be addressed by the Commission in a subsequent Order.

FOR FURTHER INFORMATION CONTACT: Nancy Joyner, Mass Media Bureau, (202) 418-2180.

SUPPLEMENTARY INFORMATION: This is a synopsis of the Commission's Report and Order, MM Docket No. 01-5, adopted January 16, 2002, and released January 25, 2002. The full text of this Commission decision is available for inspection and copying during normal business hours in the FCC's Reference Information Center (Room CY-A257), 445 12th Street, SW., Washington, DC. The complete text of this decision may also be purchased from the Commission's copy contractor, Qualtex International, Portals II, 445 12th Street, SW., Room CY-B402, Washington, DC 20554, telephone (202) 863-2893.

List of Subjects in 47 CFR Part 73

Radio broadcasting.

Part 73 of title 47 of the Code of Federal Regulations is amended as follows:

PART 73—RADIO BROADCAST SERVICES

1. The authority citation for part 73 continues to read as follows:

Authority: 47 U.S.C. 154, 303, 334, and 336.

§ 73.202 [Amended]

2. Section 73.202(b), the Table of FM Allotments under Georgia, is amended by adding Reynolds, Channel *245A.

Federal Communications Commission.
John A. Karousos,
Chief, Allocations Branch, Policy and Rules Division, Mass Media Bureau.

[FR Doc. 02-3032 Filed 2-7-02; 8:45 am]

BILLING CODE 6712-01-P